DEPARTMENT OF COMMERCE

National Oceanic and Atmospheric Administration

DEPARTMENT OF THE INTERIOR

U.S. Fish and Wildlife Service

[I.D. 052505A]

Marine Mammals and Endangered Species; National Marine Fisheries Service Permit No. 960-1528; U.S. Fish and Wildlife Service File No. PRT017891

AGENCIES: National Marine Fisheries Service (NMFS), National Oceanic and Atmospheric Administration (NOAA), Commerce; U.S. Fish and Wildlife Service, Interior.

ACTION: Receipt of permit amendment request.

SUMMARY: Notice is hereby given that the Museum of Natural History Collections, Department of Environmental Studies, University of California, Santa Cruz, CA 95064 [Principal Investigator: Tonya Haff], has requested an amendment to scientific research permit no. 960-1528/PRT01789.

DATES: Written, telefaxed, or e-mail comments must be received on or before August 24, 2005.

ADDRESSES: The amendment request and related documents are available for review upon written request or by appointment in the following office(s):

Permits, Conservation and Education Division, Office of Protected Resources, NMFS, 1315 East-West Highway, Room 13705, Silver Spring, MD 20910; phone (301)713-2289; fax (301)427-2521;

Southwest Region, NMFS, 501 West Ocean Blvd., Suite 4200, Long Beach, CA 90802-4213; phone (562)980-4001; fax (562)980-4018; and

U.S. Fish and Wildlife Service, Division of Management Authority, 4401 North Fairfax Drive, Room 700, Arlington, VA 22203 (1-800-358-2104).

Written comments or requests for a public hearing on this application should be mailed to the Chief, Permits, Conservation and Education Division, F/PR1, Office of Protected Resources, NMFS or Chief, Branch of Permits, Division of Management Authority, U.S. Fish and Wildlife Service. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: Permit No. 960-1582/PRT017891.

FOR FURTHER INFORMATION CONTACT: Ruth Johnson or Jennifer Skidmore, Office of Protected Resources, NMFS, (301)713-2289; and Monica Farris, Branch of Permits, USFWS (1-800-358-2104).

SUPPLEMENTARY INFORMATION: The subject amendment to permit no. 960-1582/PRT017891 is requested under the authority of the Marine Mammal Protection Act of 1972, as amended (MMPA; 16 U.S.C. 1361 et seq.), the Regulations Governing the Taking and Importing of Marine Mammals (50 CFR parts 18 and 216), the Endangered Species Act of 1973, as amended (ESA; 16 U.S.C. 1531 et seq.), the regulations governing the taking, importing, and exporting of endangered and threatened species (50 CFR parts 17 and 222-226) and the Fur Seal Act. of 1966, as amended (16 U.S.C. 1151 et seq.).

Permit no. 960-1528/PRT017891 authorizes the Holder to acquire, import/export marine mammal specimens of the Orders Cetacea, Pinnipedia and Sirenia for purposes of scientific research and for deposit into a museum collection. The import/export may occur on a worldwide basis. The Holder now requests a 5-year extension of the joint NMFS and USFWS permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 13, 2005.
Stephen L. Leathery,
Chief, Permits, Conservation and Education Division, Office of Protected Resources, National Marine Fisheries Service.

Dated: July 18, 2005.
Charlie R. Chandler,
Chief, Branch of Permits, Division of Management Authority, U.S. Fish and Wildlife Service.

[FR Doc. 05-14618 Filed 7-22-05; 8:45 am]

BILLING CODE 3510-22-S